DEPARTMENT OF DEFENSE

Department of the Army

[Docket ID USA-2010-0021]

Privacy Act of 1974; System of Records

AGENCY: Department of the Army; DoD.

ACTION: Notice to add a system of records.

SUMMARY: The Department of the Army proposes to add a system of records to its inventory of record systems subject to the Privacy Act of 1974 (5 U.S.C. 552a), as amended.

DATES: This proposed action will become effective without further notice on November 4, 2010, unless comments are received which result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on September 22, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: September 29, 2010.
Mitchell S. Bryman,
Alternate OSD Federal Register Liaison Officer, Department of Defense.

A0036-2 USAAA

System Name:

Army Audit Agency System for Information Storage

System Location:

U.S. Army Audit Agency, 3101 Park Center Drive, Alexandria, VA 22302-1596.

Categories of Individuals Covered by the System:

Current, former military, and civilian employees of the U.S. Army Audit Agency.

Categories of Records in the System:

Employee information; name, Social Security Number (SSN), date of birth, place of birth, military status, security clearance, leave, overtime/comp time, work schedules, positions and locations; rating chain; training history, educational degree level to include Continuing Professional Education (CPE), home and work phone numbers, and home and work addresses.

Authority for Maintenance of the System:

10 U.S.C. 3013, Secretary of the Army; DoD 7600.07-M, DoD Audit Manual; DoD Financial Management Regulation Volume 8: Civilian Pay Policy and Procedures; Army Regulation 36-2, Audit Services in the Department of the Army; Army Regulation 380-67, The Department of the Army Personnel Security Program; E.O. 9397 (SSN), as amended.

Purpose(s):

The Army Audit Agency System for Information Storage (AAAsist) streamlines the audit process, reduces the amount of paperwork and/or e-mail required to manage the audit process. This system will provide project management, track staffing information, provide Activity Based Costing (ABC) Reporting, and agency business process management.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the Army's compilation of systems of records notices also apply to this system.

Policies and Practices for Storing, Retrieving, Accessing, Retaining, and Disposing of Records in the System:

Storage:

Electronic storage media.

Retrievability:

Retrieved by a name or educational degree level.

Safeguards:

Physical access is restricted to authorized personnel with a serialized key-card. Physical access to the database servers are maintained and restricted to authorized personnel only and protected by a cipher lock. User accounts to access the database servers are limited to personnel on a “need-to-know” basis. Access to through the user web interface is restricted to authorized personnel with a valid and active user account, password and Common Access Card (CAC). Passwords are changed periodically.

Retention and Disposal:

Project Management records are disposed of by shredding, burning, or erasing from system three years after the last recommendation is implemented.

System Manager(S) and Address:

The Auditor General, U.S. Army Audit Agency, 3101 Park Center Dr., Alexandria, VA 22302-1596.

Notification Procedure:

Individuals seeking to determine whether information about themselves is contained in this system should address written inquiries to The Office of General Counsel, U.S. Army Audit Agency, 3101 Park Center Dr., Alexandria, VA 22302-1596.

All written inquiries should provide the full name, Social Security Number (SSN), date of birth, military status and current mailing address and any details which may assist in locating records, and their signature.

In addition, the requester must provide a notarized statement or an unsworn declaration made in accordance with 28 U.S.C. 1746, in the following format:

If executed outside the United States: ‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.

Record Access Procedures:

Individuals seeking access to information about themselves contained in this system of records should address written inquiries to The Office of General Counsel, U.S. Army Audit Agency, 3101 Park Center Dr., Alexandria, VA 22302-1596.

All written inquiries should provide the full name, Social Security Number (SSN), date of birth, military status and current mailing address and any details which may assist in locating record, and their signature.

In addition, the requester must provide a notarized statement or an unsworn declaration made in accordance with 28 U.S.C. 1746, in the following format:

If executed outside the United States: ‘I declare (or certify, verify, or state) under penalty of perjury under the laws of the United State of America that the foregoing is true and correct. Executed on (date). (Signature)’.

If executed within the United States, its territories, possessions, or commonwealths: ‘I declare (or certify, verify, or state) under penalty of perjury that the foregoing is true and correct. Executed on (date). (Signature)’.

Contesting Record Procedures:

The Army's rules for accessing records, and for contesting contents and appealing initial agency determinations are contained in Army Regulation 25-71; 32 CFR part 505; or may be obtained from the system manager.

Record Source Categories:

From the individual and the individual's official personnel file.

Exemptions Claimed for the System:

None.

[FR Doc. 2010-24845 Filed 10-4-10; 8:45 am]

BILLING CODE 5001-06-P